DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of November 2003.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (Increased imports) and (a)(2)(B)(II.B) (No shift in production to a foreign country) have not been met.

TA-W-53,176; TCI Machinery, Inc., including leased workers of Oasis Outsourcing, Gastonia, NC

TA-W-53,308; Burger Structural Steel Co., a subsidiary of Burger Iron Co., Akron, OH

TA-W-53,437; Sequel Manufacturing, Willow Springs, MO

TA-W-53,469; Wexco Corp., Lynchburg, VA

TA-W-53,198; Celanese Acetate, a div. of Celanese AG, Narrows, VA

TA-W-53,023; Cardinal Glass Industries, Inc., Sextonville, WI

TA-W-53,084; Eaton Corp., Watertown, WI

TA-W-52,943; Composites Solutions, Inc. (CSI), West Columbia, SC

TA-W-53,190; The Carriage House Companies, Inc., a subsidiary of Ralcorp Holdings, Inc., Streator, IL

TA-W-53,252; Cytec Industries, Woodbridge, NJ

TA-W-53,258; Allied Machine and Engineering Corp., Dover, OH

TA-W-53,131; Thermotek, Inc., Carrollton, TX

TA-W-53,089; East Coast Hydraulics Operations, Inc. (ECHO), Camp Hill, PA

TA-W-53,146; Metalforming Technologies/Northern Tube, Pinconning, MI

TA-W-53,107; Rapid Mold Solutions, Inc., Erie, PA

TA-W-53,301; Celanese Acetate, LLC, Celriver Plant, Rock Hill, SC

TA-W-52,729; TRW Automotive, Body Controls Systems, NA, Winona, MN

TA-W-53,044; Intermet Corp., Archer Creek Foundry, Lynchburg, VA

TA-W-53,059; Rockwell Automation, LNK Div., Gallipolis, OH

TA-W-53,062; Wallner Tool, Inc., Maple Grove, MN

TA-W-53,358; B.P.B. Manufacturing, Pittston Plant Div., Pittston, PA

TA-W-53,228; Aurora Acquisition Corp., Formerly Clarksburg Casket Co., Hepzibah, WV

TA-W-53,145; General Aluminum Manufacturing Co., Hudson Forge, Hudson, MI

TA-W-53,923; Delphi Chassis, Home Ave./Vandalia Operations, Dayton, OH

TA-W-53,441; Coca Cola North America, Minute Maid Div., Hightstown, NJ

TA-W-53,265; Panoramic, Inc., Janesville, WI

TA-W-53,507; Northern Aluminum Foundry, North Fond du Lac, WI

TA-W-53,453; Giddings and Lewis Foundry, LLC, a company of Thyssen Krupp Technologies, a div. of Thyssen Krupp AG, Menominee, MI

TA-W-53,427; Puzzle-Craft, Wabasso, MN

TA-W-53,385; Bowater, Inc., Calhoun Woodlands Operations, Kingston, TN

TA-W-53,314; Acrotech Midwest, Inc., Crosby, MN

TA-W-53,118; SPX Contech Metal Forge, Dowagiac, MI

TA-W-53,032; The Plastek Group, Master Mold Company, a div. of Triangle Tool Co., Erie, PA

The investigation revealed that criteria (a)(2)(A)(I.C) (increased imports) and (a)(2)(B)(II.C) (has shifted production to a foreign country) have not been met.

TA-W-53,156; Halmode Apparel, Inc., a div. of Kellwood Co., Roanoke, VA

TA-W-53,211; Rogers Corp., South Windham, CT

The workers firm does not produce an article as required for certification under Section 222 of the Trade Act of 1974.

TA-W-53,309; Candle Corp., El Segundo, CA

TA-W-52,330; Air Products and Chemicals, Inc., Corporate Headquarters, Global Engineering Department, Allentown, PA

TA-W-53,376; The Boeing Co., Los Angeles Distribution Center, Torrance, CA

TA-W-53,311; Honeywell Sensing and Controls, Design Drafting Workers, Freeport, IL

TA-W-53,422; United Air Lines, Inc., Cargo Div., Elk Grove, IL

TA-W-53,375; Wyeth Research, Collegeville, PA

TA-W-53,290; Finisar Corp., Sunnyvale, CA

TA-W-53,485; Coutts Library Services, Inc., Niagara Falls, NY

TA-W-53,486; Stanley Services, Smithfield, NC

TA-W-53,516; Delphi Mechatronic Systems, a subsidiary of Delphi Corp., Downers Grove, IL

TA-W-53,225; ASML Track Division Sales and Service, Hillsboro, OR

TA-W-53,231; GE IT Solutions, Inc., Erlanger, KY

TA-W-53,403; Pillowtex Corp., Fieldcrest Cannon, Mesa, AZ

TA-W-53,331; The Budd Group, Grover, NC

TA-W-53,607; Med-Da

TA, Inc., Seattle, WA

TA-W-53,349; Ethan Allen Manufacturing, Inc., Ethan Allen Interiors, Inc., Beecher Falls, VT

TA-W-53,367; Fishing Vessel (F/V), Ginny C, Sitka, AK

TA-W-53,178; Solectron, Solectron CRM Global Services Div., Beaverton, OR

TA-W-53,203; Vibren Technology, a subsidiary of NEC Corp., Boxborough, MA

TA-W-53,074; Finisar Corp., Hayward, CA

TA-W-53,461; Symtech, Inc., Spartanburg, SC

TA-W-53,488; Ferguson Enterprises, Inc., a div. of Wolseley PLC, Portland, OR

TA-W-53,394; Klear Knit, Inc., d/b/a Wales Fabric, Gastonia, NC

TA-W-53,404; Arrow Electronics, Inc., Tellabs In-Plant Store, Boilingbrook, IL

TA-W-53,332; NXL Investments, Inc., Euclid, OH

TA-W-53,229; Conoco-Phillips, Ponca City, OK

TA-W-53,106; Tree Source Industries, Inc., Portland, OR

TA-W-53,164; Agilent Technologies, Manufacturing Test Business Unit, Electronic Manufacturing Test Div. Loveland, CO

TA-W-53,419 & A, B; Encee, Inc., Eden, NC, Kannapolis, NC and Smimfield, NC

TA-W-53,374; Manufacturers' Services Ltd, Charlotte, NC

TA-W-53,280; Allegheny Ludlum Corp., Accounts Payable/Receivable Department, Pittsburgh, PA

TA-W-53,563; Pillowtex Corp., Fieldcrest Cannon, Commerce, GA

TA-W-53,577; TDK Texas Corp., a subsidiary of TDK USA Corp., El Paso, TX

TA-W-53,549; GE Group Life Assurance Co., a subsidiary of General Electric Co., Greenfield, MA

TA-W-53,274; Duluth, Missabe & Iron Range Railway Co. (DM&IR), Duluth, MN

TA-W-53,392; The Montgomery Co., Opelika, AL

TA-W-53,396; Haband Operations, LLC, Peckville, PA

TA-W-53,403; Pillowtex Corp., Fieldcrest Cannon, Mesa, AZ

The investigation revealed that criterion (a)(2)(A)(I.A) (no employment decline) has not been met.

TA-W-53,323; Franklin Electric Co., Inc., Motor Components Div., Jonesboro, IN

TA-W-53,491; State Pattern Works, Inc., Greendale, WI

TA-W-53,267; Columbia Forest Products, Chatham, VA

The investigation revealed that criteria (a)(2)(A)(I.B) (Sales or production, or both, did not decline) and (a)(2)(B)(II.B) (has shifted production to a county not under the free trade agreement with U.S.) have not been met.

TA-W-53,312; Ethan Allen, Inc., Dublin, VA

TA-W-53,428; Hawkeye Concrete Products Co., Mediapolis, IA

TA-W-53,328; International Paper Co., Kaukauna Mill, Kaukauna, WI

TA-W-53,249; Riley Creek Lumber Co., formerly known as Louisiana Pacific Corp., Moyie Springs, ID

The investigation revealed that criteria (2) has not been met. The workers firm (or subdivision) is not a supplier or downstream producer to trade-affected companies.

TA-W-53,175; Ciber, Inc., Fairport, NY

TA-W-53,341; Viking Products, a div. of Underwood Industries of New York, Waverly, NY

TA-W-53,262; Graphic Packaging International, Inc., Carton Plant, Fort Atkinson, WI

The investigation revealed that criteria (3) (A) or (B) has not been met. The workers firm is not a supplier and the component parts it supplied for the firm (or subdivision) did not account for at least 20 percent of the production or sales of the workers' firm; or the loss of business by the workers' firm with the firm (or subdivision) did not contribute importantly to the workers' separation or threat of separation.

TA-W-53,356; Heraeus Electro-Nite Co., Philadelphia, PA

Affirmative Determinations for Worker Adjustment Assistance

The following certifications have been issued; the date following the company name and location of each determination references the impact date for all workers of such determination.

The following certifications have been issued. The requirements of (a) (2) (A) (increased imports) of Section 222 have been met.

TA-W-53,484; Powerwave Technologies, El Dorado Hills, CA: October 30, 2002.

TA-W-53,481; Springs Industries, Inc., including leased workers of Phillips Staffing, Springfield Plant, Laurel Hill, NC: October 31, 2002.

TA-W-53,213; Viking Pump, Inc., Viking Engineered Cast Products “ Iron Foundry Div., Cedar Falls, IA: October 2, 2002.

TA-W-53,096; H. Warshow and Sons, Inc., Milton, PA: September 17, 2002.

TA-W-53,310; Endeavor Mold and Design, Inc., Erie, PA: October 2, 2002.

TA-W-53,246; Twin City Knitting Co., Inc., Conover, NC: October 10, 2002.

TA-W-53,245; Piedmont Industries, Inc., Icard Location, Conover, NC: October 10, 2002.

TA-W-53,236; Analog Devices, Final Test Department, Santa Clara, CA: October 10, 2002.

TA-W-52,823; Channel Products, Inc., Cleveland, OH: August 25, 2002.

TA-W-52,890; Riverdale Decorative Products, div. of Alagold Corp., Montgomery, AL: September 16, 2002.

TA-W-53,087; Manchester Tool Co., Akron, OH: September 18, 2002.

TA-W-53,285; Mastecraft Fabrics, LLC, Oakland Plant, including leased workers of Coxe Personnel Services and Personnel Services Unlimited, Spindale, NC: September 20, 2002.

TA-W-52,208; Randolph Knitting, Inc., Ramseur, NC: October 6, 2002.

TA-W-53,171; IMPC Acquisitions LLC, a div. of Packaging Dynamics LLC, Detroit, MI: September 30, 2002.

TA-W-53,259; O'Neal Steel, Inc., Weldment Div., Roanoke, VA: October 10, 2002.

TA-W-53,264; Burlington House Finishing, a div. of Burlington House, Burlington, NC: October 10, 2002.

TA-W-53,273 & A; Tietex International, Interiors Div., Rocky Mount Plant, Rocky Mount, NC and Williamsburg Plant, Burlington, NC: September 22, 2002.

TA-W-53,076; Griffin Manufacturing, Inc., Fall River, MA: September 26, 2002.

TA-W-53,183; Group Seven Systems, Inc., Lenoir, NC: October 3, 2002.

TA-W-53,256 & A; Connector Service Corp., including leased workers of On-Site Temporary Services, The BECO Group, and Account Resource, Franklin Park, IL and Elgin, IL October 14, 2002.

TA-W-53,269; Weyco Group, Inc., Beaver Dam, WI: October 14, 2002.

TA-W-53,215; Kingsport Foundry and Manufacturing Corp., Kingsport, TN: September 29, 2002.

TA-W-53,253; W. R. Thread Cutting Works, Inc., Union City, NJ: October 15, 2002.

TA-W-53,417; National Pattern, Inc., Saginaw, MI: October 3, 2002.

TA-W-53,579; Dillon Floral Corp., Bloomington, PA: November 11, 2002.

TA-W-53,233; T.D.K. Ferrites Corp., a subsidiary of T.D.K. U.S.A. Corp., Shawnee, OK: August 30, 2003.

TA-W-53,104; Webb Wheel Products, Inc., Cullman, AL: September 25, 2002.

TA-W-53,137; Weave Corporation, Denver, PA: September 10, 2002.

TA-W-53,147; Eagle Picher, Inc., Hillsdale, MI: September 26, 2002.

TA-W-53,150; Rayovac Corp., Manufacturing Div., Fennimore, WI: October 2, 2002.

TA-W-53,284; Jolly Tundra, Inc., Winthrop, MN: October 20, 2002.

TA-W-53,288; Biddeford Blankets, LLC, a subsidiary of Microlife Corp., Biddeford, ME: October 17, 2002.

TA-W-52,878; CID Hosiery Mills, Inc., Lexington, NC: September 16, 2002.

TA-W-53,045; Pennsylvania Machine Works, Inc., Aston, PA: September 10, 2002.

TA-W-53,083; Evy of California, Inc., Los Angeles, CA: September 22, 2002.

TA-W-53,072; Congress Industries, Inc., Hawthorne, NJ: September 4, 2002.

TA-W-53,054; The Doe Run Resources, Corp., Glover Smelting Div., including leased workers of Workforce, Annapolis, MO: September 23, 2002.

TA-W-53,102; Carbone Kirkwood LLC, Cleveland, OH: September 30, 2002.

TA-W-53,120 & A; DVDA, Inc., New York, NY, and D'Angelis Designs, Inc., New York, NY: September 28, 2002.

TA-W-53,174; Sinclair Collins, div. of Parker Hannafin Corp., Akron, OH: October 1, 2002.

TA-W-53,139; Totally Traditional, Inc., Monroe, LA: October 2, 2002.

TA-W-53,130; Oregon Woodworking Co., including leased workers of Mid-Oregon Personnel Services, Bend, OR: October 1, 2002.

TA-W-53,167; Wirco Castings, Inc., including leased workers of Processional Staffing, Inc., New Athens, IL: October 7, 2002.

TA-W-53,158; Zawick Manufacturing Co., Hellertown, PA: October 6, 2002.

TA-W-Newell Porcelain Co., Inc., Newell, WV: October 14, 2002.

TA-W-53,202; Arctic Cat, Inc., Thief River Falls, MN: October 8, 2002.

TA-W-53,279; Atchison Products, Inc., Atchison, KS: September 30, 2002.

TA-W-53,313; Classic Hosiery, Inc., Burlington, NC: October 17, 2002.

TA-W-53,319; Meadwestvaco, Lakewood Mold, a div. of AGI Polymatrix Group, Pittsfield, MA: October 15, 2002.

The following certifications have been issued. The requirements of (a)(2)(B) (shift in production) of Section 222 have been met.

TA-W-53,458; 807 Cutting Services, Inc., El Paso, TX: October 28, 2002.

TA-W-53,438; L. Hardy Co., Inc., Worcester, MA: October 31, 2002.

TA-W-53,421; Seamless Textiles, Inc., a subsidiary of Sara Lee Intimate Apparel, Humacao, PR: October 10, 2002.

TA-W-53,315 & A; OBG Manufacturing Co., Oshkosh B'Gosh, Inc., Liberty, KY and Albany, KY: March 22, 2003.

TA-W-53,303; Champagne Dye Works, Inc., Asheboro, NC: October 20, 2002.

TA-W-53,525; Rene Composite Materials, a subsidiary of Rene Materiaux Composites, Pearisburg, VA: November 12, 2002.

TA-W-53,222; Eastman Kodak Co., Film Finishing Operations, Rochester, NY: October 10, 2002.

TA-W-53,283; Remy Reman, LLC, Bay Springs, MS: October 2, 2002.

TA-W-53,353; LAPP Insulator Co. LLC, Sandersville Facility, Sandersville, GA: October 22, 2002.

TA-W-53,116; Cogent Power, Inc., a subsidiary of Corus and SSAB, Bridgeport, CT: October 2, 2002.

TA-W-53,393; National Mills, Inc., Yates Center Plant, Yates Center, KS: October 30, 2002.

TA-W-53,316; Robert Bosch Tool Corp., Magna Div., a Part of Robert Bosch North America, Elizabethtown, KY: October 21, 2002.

TA-W-53,271; Stahlsac, Inc., Weaverville, NC: October 3, 2002.

TA-W-52,978; Carmel Textile, Inc., Hialeah, FL: August 28, 2002.

TA-W-53,026; Metaldyne Driveline/Hydraulics Group, Bedford Heights, OH: September 17, 2002.

TA-W-53,099; Border Apparel Laundry, Ltd, El Paso, TX: September 29, 2002.

TA-W-53,114; Philchem, Inc., d/b/a Process Chemicals, LLC, Greer, SC: September 30, 2002.

TA-W-53,224; Nevemar Co., High Pressure Laminates Div., Odenton, MD: October 8, 2002.

TA-W-53,277; Ken Lee Precision Corp., Baltimore, MD: October 13, 2002.

TA-W-53,463; Wings West, Inc., Santa Ana, CA: October 23, 2002.

TA-W-53,322; John Crane, Inc., Vandalia, IL: October 22, 2002.

TA-W-53,307; Wetherill Associates, Inc., a div. of Wetherill Enterprises, Inc., including leased workers of Manpower, Miami, FL: October 6, 2002.

TA-W-53,456; Asbury Fluxmaster of Utah, Inc., a subsidiary of Asbury Carbons, Inc., SOS Staffing, Ogden, UT: November 4, 2002.

TA-W-53,306; Springs Window Fashions, LP, Springs Wood Products, including leased workers of Kelly Services, Inc., Wausau, WI: October 20, 2002.

TA-W-53,514; Art Leather Manufacturing Co., Inc., Elmhurst, NY: October 29, 2002.

TA-W-53,523; Wellington Leisure Products, Inc., a wholly owned subsidiary of Standard Industries, Greensboro, GA, A; Madison, GA, B; Granite Quarry, NC and C; Eatonton, GA: November 3, 2002.

TA-W-53,462; Marshall Brass, a div. of S.H. Leggitt Co., Marshall, MI: November 3, 2002.

TA-W-53,474; Etco, Inc., Cord Products Div., Warwick, RI: November 6, 2002.

TA-W-53,431; Sweetwater Apparel, Inc., including leased workers of Skilstaff, Inc., Collinwood, TN: October 31, 2002.

TA-W-53,347; Thomas Apparel Co., a div. of Stone County Garment Co., Hartville, MO: October 31, 2002.

TA-W-53,363; Kelly-Springfield Tire Co., a subsidiary of The Goodyear Tire and Rubber Co., Tyler, TX: October 22, 2002.

TA-W-53,373; AVI Corp., including leased workers of Manpower, Inc., Queensbury, NY: October 22, 2002.

TA-W-53,379; JWD Machine, Inc., Fife, WA: October 13, 2002.

TA-W-53,407; Alice Manufacturing Co., Inc., Foster Plant Div., Easley, SC: October 28, 2002.

TA-W-53,412; Fort Payne Socks, Inc., Hosiery Div., Fort Payne, AL: October 29, 2002.

TA-W-53,210; Connector Service Corp., Dallas, TX: October 9, 2002.

TA-W-53,040; Bowling Green Spinning Co., Bowling Green, SC: September 9, 2002.

TA-W-53,530; Stone County Garment Co., Crane, MO: November 4, 2002.

TA-W-53,557; Paxar Americas, formerly Paxar Corp., Printed Label Div., (Snow Hill Tape), Snow Hill, NC: November 17, 2002.

TA-W-53,226; Cavalier Specialty Yarn Co., Gastonia, NC: October 10, 2002.

TA-W-53,207; Extrasport, Inc., a div. of Johnson Outdoors, Miami, FL: October 3, 2002.

TA-W-53,205; Lear Corp., Interior Systems Div., Lewistown, PA: September 25, 2003.

TA-W-53,292; Salmon Falls Precision Fabricators, Inc., Rochester, NH: October 16, 2002.

TA-W-53,195; Solectron, Systems Integration Div., including leased workers from Express Personnel and Kelly Service, Creedmoor, NC: September 25, 2002.

TA-W-53,180; 3M Company, Electronic Solutions Div., Columbia, MO: September 26, 2002.

TA-W-53,055; Leonard Electric Products of Texas, Brownsville, TX: September 17, 2002.

TA-W-53,123; Reed Rico, Precision Specialty Products, Inc., Holden, MA: September 10, 2002.

TA-W-53,148; Avanex Corp., including leased workers of Accountemps, Electronix Staffing Services, Certified Employment Group, Andiamol Group LLC and Facilities First, Freemont, CA: September 24, 2002.

TA-W-53,455; Glacier West Sportswear, Inc., a subsidiary of Cascade West Sportswear, Inc., Puyallup, WA: November 4, 2002.

TA-W-53,409; Delta International Machinery, Pentair Tool Group, Tupelo Manufacturing Center, Tupelo, MS: October 11, 2002.

The following certification has been issued. The requirement of upstream supplier to a trade certified primary firm has been met.

TA-W-53,338; Diversified Tool Corp., Cambridge Springs, PA: October 17, 2002.

TA-W-52,910; Safer Textiles Processing Corp., a subsidiary of Safer Holding Corp., Newark, NJ, A; Safer Paper and Transfer Printing Corp., a subsidiary of Safer Holding Corp., East Rutherford, NJ, B; Safer Pigment Corp., a subsidiary of Safer Holding Corp., Newark, NJ, C; Meadows Knitting Corp., a subsidiary of Safer Holding Corp., Newark, NJ and D; Kuttner Prints, Inc., a subsidiary of Safer Holding Corp., Newark, NJ: September 10, 2002.

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

Since the workers are denied eligibility to apply for TAA, the workers cannot be certified eligible for ATAA.

TA-W-53,375; Wyeth Research, Collegeville, PA

TA-W-53,376; The Boeing Co., Los Angeles Distribution Center, Torrance, CA

TA-W-53,252; Cytec Industries, Woodbridge, NJ

TA-W-53,308; Burger Structural Steel Co., a subsidiary of Burger Iron Co., Akron, OH

TA-W-53,229; Conoco-Phillips, Ponca City, OK

TA-W-53,106; Tree Source Industries, Inc., Portland, OR

TA-W-53,164; Agilent Technologies, Manufacturing Test Business Unit, Electronic Manufacturing Test Div., Loveland, CO

TA-W-53,419 &A,B; Encee, Inc., Eden, NC, Kannapolis, NC and Smithfield, NC

TA-W-53,374; Manufacturers' Services Ltd., Charlotte, NC and Commercial Loan Technology Div., Houston, TX

TA-W-53,280; Allegheny Ludlum Corp., Accounts Payable/Receivable Dept., Pittsburgh, PA

TA-W-53,563; Pillowtex Corp., Fieldcrest Cannon, Commerce, GA

TA-W-53,577; TDK Texas Corp., a subsidiary of TDK USA Corp., El Paso, TX

TA-W-53,549; GE Group Life Assurance Co., a subsidiary of General Electric Co., Greenfield, MA

TA-W-53,274; Duluth, Missabe and Iron Range Railway Co. (DM&IR), Duluth, MN

TA-W-53,392; The Montgomery Co., Opelika, AL

TA-W-53,396; Haband Operations, LLC, Peckville, PA

TA-W-53,403; Pillowtex Corp., Fieldcrest Cannon, Mesa, AZ

TA-W-53,301; Celanese Acetate, LLC, Celriver Plant, Rock Hill, SC

TA-W-53,107; Rapid Mold Solutions, Inc., Erie, PA

TA-W-53,146; Metalforming Technologies/Northern Tube, Pinconning, MI

TA-W-52,729; TRW Automotive, Body Controls Systems, NA, Winona, MN

TA-W-53,044; Intermet Corp., Archer Creek Foundry, Lynchburg, VA

TA-W-53,059; Rockwell Automation, LNK Div., Gallipolis, OH

TA-W-53,062; Wallner Tool, Inc., Maple Grove, MN

TA-W-53,358; B.P.B. Manufacturing, Pittston Plant Div., Pittston, PA

TA-W-53,228; Aurora Acquisition Corp., Formerly Clarksburg, Casket Co., Hepzibah, WV

TA-W-53,145; General Aluminum Manufacturing Co., Hudson Forge, Hudson, MI

TA-W-52,923; Delphi Chassis Home Ave./Vandalia Operations, Dayton, OH

TA-W-53,441; Coca Cola North America, Minute Maid Div., Hightstown, NJ

TA-W-53,265; Panoramic, Inc., Janesville, WI

TA-W-53,507; Northern Aluminum Foundry, North Fond du Lac, WI

TA-W-53,453; Giddings and Lewis Foundry, LLC, a company of Thyssen Krupp Technologies, a div. of Thyssen Krupp AG, Menominee, MI

TA-W-53,427; Puzzle-Craft, Wabasso, MN

TA-W-53,385; Bowater, Inc., Calhoun Woodlands Operations, Kingston, TN

TA-W-53,314; Acrotech Midwest, Inc., Crosby, MN

TA-W-53,118; SPX Contech Metal Forge, Dowagiac, MI

TA-W-53,032; The Plastek Group, Master Mold Co., a div. of Triangle Tool Company, Erie, PA

Affirmative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-53,304; Molecular Bioproducts, Inc., Quality Scientific Plastics, Inc., Petaluma, CA: September 24, 2002.

TA-W-53,122; North Pacific Processors, Inc., Cordova, AK: September 3, 2002.

TA-W-53,128; Wilson Sporting Goods, Springfield, TN: October 1, 2002.

TA-W-53,017; Sunbeam Products, Inc., Hattiesburg, MS: September 23, 2002.

TA-W-53,031; Randco Tool and Die, Inc., Meadville, PA: September 12, 2002.

TA-W-53,105; American & Efird, Inc., Maiden Facility, a div. of The Ruddick Corp., Mt. Holly, NC: October 1, 2002.

TA-W-53,007; Contempora Fabrics, Inc. Lumberton, NC: September 4, 2002.

TA-W-52,976; Upholstery Fabric Mill of Georgia, Inc., Jasper, GA: September 19, 2002.

TA-W-52,902; Buffalo China, Inc., Buffalo, NY: September 4, 2002.

TA-W-52,934; Lego Systems, Inc., Shows and Events Div., Enfield, CT: September 26, 2002.

TA-W-52,940; Motor Coach Industries International, Inc., Roswell, NM: September 14, 2002.

TA-W-53,239; Acme Mills Co., Fairway Products, Quincy, MI: September 26, 2002.

TA-W-53,163; Zapata Industries, Inc., Muskogee, OK: October 3, 2002.

TA-W-53,110; Zorlu Manufacturing Co., LLC, Warrenton, GA: September 24, 2002.

TA-W-53,015; Texas PMW, Inc., Pennsylvania Machine Works, Inc., Houston, TX: September 10, 2002.

TA-W-53,028; Bic Corp., Lighters Div., Gaffney, SC: September 23, 2002.

TA-W-52,998; Saint-Gobain Calmar, Inc., City of Industry, CA: September 25, 2002.

TA-W-52,991; Select Elastics of America, Inc., McAllen, TX: September 22, 2002.

TA-W-52,924 & A; Techneglas, Inc., Columbus, OH and Pittston, PA: October 20, 2003.

TA-W-52,925; SKF USA, Inc., Altoona, PA: September 11, 2002.

TA-W-52,931; PCS Nitrogen Fertilizer, LP, a/k/a Memphis Plant, a div. of Potash Corp., Millington, TN: September 2, 2002.

TA-W-52,944; Chiquola Fabrics, LLC, Kingsport, TN: September 15, 2002.

TA-W-52,964; Phelps Dodge Mining Co., Tyrone Mining, LLC, Tyrone, NM: September 3, 2002.

TA-W-52,973; Cortina Fabrics, Swepsonville, NC: September 24, 2002.

TA-W-52,983; Escod Industries, Inc., BKB, Inc., Insilso Technologies, North Myrtle Beach, SC: September 16, 2002.

TA-W-52,768; Titan Plastics Group, Portage, MI: August 27, 2002.

TA-W-52,874; PMW Illinois, Inc. Pennsylvania Machine Works, Inc., Carlinville, IL: September 10, 2002.

TA-W-52,880; Dayton Superior Corp., Birmingham, AL: September 18, 2002.

TA-W-52,858; Wetsel-Oviatt Lumber Company, El Dorado Hills, CA: August 25, 2002.

TA-W-52,796, A,B,C; Halliburton Energy Services, Alaska Operations, Prudhoe Bay, AK, Sterling, AK, Fairbanks, AK and Anchorage, AK: September 2, 2002.

TA-W-52,786; Excelsior Foundry Co., Belleville, IL: August 21, 2002.

TA-W-53,081; Robert Manufacturing Co., Rancho Cucamonga, CA: September 8, 2002.

TA-W-53,011; General Dynamics, Mosses Lake, WA: September 24, 2002.

TA-W-53,022; Ideal Forging Corp., Southington, CT: September 24, 2002.

TA-W-53,038; Coats and Clark, Inc., Toccoa, GA: September 26, 2002.

TA-W-53,042; Solon Manufacturing Co., Rhinelander, WI: September 24, 2002.

TA-W-53,043; Honeywell Airframe Systems, Torrance, CA: September 26, 2002.

TA-W-53,004; Xerox Corp., Business Group Operations (BGO), Webster, NY: September 15, 2002.

TA-W-52,863; Thantex Specialties, Inc., Abbeville, SC: August 27, 2002.

TA-W-52,565; Johns Manville Corp., Engineered Products Group, Vienna, VA: August 8, 2002.

TA-W-52,718; I.T.W. Foils, East Burnswick, NJ: August 21, 2002.

TA-W-52,722; Conso International Corp., Union, SC: August 29, 2002.

TA-W-52,754; ACS Industries, Inc., Villanova Plant, Woonsocket, RI: August 20, 2002.

TA-W-52,762; TT Group, Inc., a wholly owned subsidiary of TT Group, Ltd, Aurora, MO: August 29, 2002.

TA-W-52,792; RST&B Curtain and Drapery, Woodruff, SC: September 2, 2002.

TA-W-52,813; Eastman Kodak Co., HISIS Finishing Department B-313, Rochester, NY: September 2, 2002.

TA-W-52,853; Trenton Technology, Inc., Utica, NY: September 4, 2002.

TA-W-52,572; Allsteel, Inc., a div. of Hon Industries, West Hazleton, PA: August 14, 2002.

TA-W-52,575; Volex, Inc., including leased workers of Accuforce, Manpower and Foothills, Conover, NC: August 13, 2002.

TA-W-52,631; Northland, a Scott Fetzer Co., Watertown, NY: August 12, 2002.

TA-W-52,649; Tellabs Operations, Inc., Bolingbrook, IL: August 19, 2002.

TA-W-52,655; Takata Petri, Inc., a subsidiary of TK Holdings, Port Huron, MI: August 22, 2002.

TA-W-52,664; Slater Steel Corp., a wholly owned subsidiary of Slater Steel, Inc., Fort Wayne, IN: April 7, 2003.

TA-W-52,688; Howes Leather Corp., Curwensville and Cutting Div., Curwensville, PA and Clearfield Whole Leather Div., Curwensville, PA: September 25, 2003.

TA-W-52,793; Milligan and Higgins, a div. of Hudson Industries Corp., Johnstown, NY: September 2, 2002.

TA-W-52,862; Paxar Corp., Fabric Label Group, Lenoir, NC: August 26, 2002.

TA-W-52,573; Gentry Mills, Inc., Albemarle, NC: August 11, 2002.

TA-W-52,603; Sierra Pine Ltd, Medite Div., Medford, OR: August 18, 2002.

TA-W-53,141; Atlas Model Railroad Co., Inc., Hillside, NJ: October 2, 2002.

TA-W-53,238; West Linn Paper Co., West Linn, OR: October 7, 2002.

TA-W-53,151; Cole Hersee Co., Boston, MA: October 3, 2002.

TA-W-53,160; Biddle Precision Components, Sheridan, IN: September 10, 2002.

TA-W-53,165; Thermal Ceramics, RPC, Elgin, IL: October 1, 2002.

TA-W-53,108; The Hon Co., Chair Department including leased workers of Corestaff and Kimco, South Gate, CA: September 22, 2002.

TA-W-53,125; Ranco North America, Invensys Climate Controls Div., including leased workers of Manpower, Link, and Select, Brownsville, TX: September 23, 2002.

TA-W-53,126; Siemens Energy and Automation, Inc., Machine Tool Business Unit, Lebanon, OH: September 23, 2002.

TA-W-53,127; Ault, Inc., Minneapolis, MN: October 2, 2002.

TA-W-53,073; OK-1 Manufacturing Co., Inc., Altus, OK: September 26, 2002.

TA-W-52,955; Andritz, Inc., Muncy Plant #2, a subsidiary of Andritz AG, Muncy, PA: September 5, 2002.

TA-W-52,986; Alcoa Fujikura Ltd, Telecommunications Div., Duncan, SC: September 15, 2002.

TA-W-53,189; Campbell Foundry Co., Harrison, NJ: October 7, 2002.

TA-W-53,212 & A; Heraeus Quartztech, LLC, a subsidiary Heraeus Holding GMBH, Austin, TX and Round Rock, TX: October 8, 2002.

TA-W-53,186; Arlon, Inc., Engineered Coatings and Laminates Div., East Providence, RI: September 29, 2002.

TA-W-53,155; Brazeway, Inc., Brazeway Dewitt Div., including leased workers of Talent Tree, DeWitt, IA: October 6, 2002.

TA-W-52,967; Stoneridge, Inc., Alphabet Div., Mebane, NC: September 20, 2002.

TA-W-52,773; Lebanite Corp., Hardboard Div., Lebanon, OR: November 1, 2002.

TA-W-52,650; PPG Industries, Fiber Glass Division, Lexington, NC: July 26, 2002.

TA-W-53,005; Canton Drop Forge, Canton, OH: September 12, 2002.

TA-W-52,961; IPAC Fabrics, Inc., a subsidiary of Industrial Polymers and Chemicals, Inc., Lewiston, ME: September 5, 2002.

TA-W-52,882; APW, Inc., Erie, PA: September 19, 2002.

TA-W-52,887; Connie Rose Manufacturing, Inc., Philadelphia, PA: September 17, 2002.

TA-W-52,889; Fox River Paper Co., Appleton, WI: September 18, 2002.

TA-W-52,864; Cooper-Atkins Corp., Middlefield, CT: August 19, 2002.

TA-W-53,240; Friedrich Air Conditioning Co., San Antonio, TX: September 30, 2002.

TA-W-52,834; The Safety Stitch, Inc., Harrisville, WV: August 22, 2002.

I hereby certify that the aforementioned determinations were issued during the months of November. Copies of these determinations are available for inspection in Room C-5311, U.S. Department of Labor, 200 Constitution Avenue, NW., Washington, DC 20210 during normal business hours or will be mailed to persons who write to the above address.

Dated: December 15, 2003.
Timothy Sullivan,
Director, Division of Trade Adjustment Assistance.

[FR Doc. 03-31855 Filed 12-24-03; 8:45 am]

BILLING CODE 4510-30-P